DEFENSE NUCLEAR FACILITIES SAFETY BOARD

Senior Executive Service (SES) Performance Review Board

AGENCY: Defense Nuclear Facilities Safety Board.

ACTION: Notice of membership.

SUMMARY: This notice is issued to announce the membership of the Defense Nuclear Facilities Safety Board (DNFSB) Senior Executive Service (SES) Performance Review Board and the DNFSB SES members available for service on SES performance review boards for other small, independent Federal commissions, committees and boards.

FOR FURTHER INFORMATION CONTACT: Laureen Manning, Deputy Director, Human Resources, 625 Indiana Avenue, NW, Suite 700, Washington, D.C. 20004-2901, (202) 694-7000.

SUPPLEMENTARY INFORMATION: 5 U.S.C. 4314(c)(1) through (5) requires each agency to establish, in accordance with regulations prescribed by the Office of Personnel Management, one or more Performance Review Boards. The board shall review and evaluate the initial appraisal by the supervisor of a senior executive's performance, along with any recommendations to the appointing authority relative to the performance of the senior executive. The board also shall make recommendations as to whether the career executive should be re-certified, conditionally re-certified, or not re-certified. The DNFSB is a small, independent Federal agency; therefore, these newly designated members of the DNFSB SES Performance Review Board are being drawn from the SES ranks of other agencies.

The following persons comprise a standing roster to serve as members of the Defense Nuclear Facilities Safety Board SES Performance Review Board:

Arctic Research Commission, Garrett W. Brass, Executive Director

National Mediation Board, Stephen Crable, Chief of Staff

Japan-United States Friendship Commission, Eric J. Gangloff, Executive Director

U.S. Chemical Safety and Hazard Investigation Board, Christopher W. Warner, General Counsel

Committee for Purchase From People Who Are Blind or Severely Disabled, Leon A. Wilson, Jr., Executive Director

The following DNFSB SES members comprise a standing roster to serve on performance review boards for other small, independent Federal commissions, committees and boards:

Richard A. Azzaro, General Counsel

J. Kent Fortenberry, Technical Director

James J. McConnell, Technical Lead for Nuclear Weapons Programs

Joseph R. Neubeiser, Deputy General Manager

Kenneth M. Pusateri, General Manager

Richard E. Tontodonato, Technical Lead for Materials Processing & Environmental Restoration Programs

EFFECTIVE DATE: September 26, 2001.

Dated: September 20, 2001.
Kenneth M. Pusateri,
Chairman, Executive Resources Board.

[FR Doc. 01-23987 Filed 9-25-01; 8:45 am]

BILLING CODE 3670-01-P